DEPARTMENT OF HEALTH AND HUMAN SERVICES

Centers for Disease Control and Prevention

Solicitation of Proposals To Add to or Modify the List of United States Ports at Which Rodent Infestation Inspections Will Be Conducted and Deratting and Deratting Exemption Certificates Issued

Correction

In the notice document appearing on page 55253 in the Federal Register issue of Wednesday, September 13, 2000, make the following correction:

On page 55253 under DATES: heading change September 31, 2000, to “October 12, 2000.”

All other information in the document remains unchanged.

Dated: September 14, 2000.
Joseph R. Carter,
Associate Director for Management and Operations, Centers for Disease Control and Prevention (CDC).

[FR Doc. 00-24246 Filed 9-20-00; 8:45 am]

BILLING CODE 4163-18-P